POSTAL SERVICE

39 CFR Part 111

Domestic Mail Service Offered to the Republic of the Marshall Islands and Federated States of Micronesia

AGENCY: Postal Service™.

ACTION: Final rule with request for comments.

SUMMARY: This final rule revises the Mailing Standards of the United States Postal Service, Domestic Mail Manual (DMM®), by returning the Republic of the Marshall Islands (RMI) and the Federated States of Micronesia (FSM) to “mail treated as domestic” status. Collect on Delivery (COD), Delivery Confirmation, Signature Confirmation, and electronic return receipt options will not be offered to FSM and RMI. Also, Express Mail service will be offered but without a guarantee. This decision was a result of high-level discussions with the RMI and the FSM and consultation with the U.S. Department of State. An additional final rule is being published to remove all references to these countries from the Mailing Standards of the United States Postal Service, International Mail Manual (IMM).

DATES: Effective date: November 19, 2007. Comment date: Submit comments on or before November 14, 2007.

ADDRESSES: Mail or deliver written comments to the Manager, Mailing Standards, United States Postal Service, 475 L'Enfant Plaza, SW., Room 3436, Washington, DC 20260-3436. Copies of all written comments will be available for inspection and photocopying between 9 a.m. and 4 p.m., Monday through Friday, at the Postal Service Headquarters Library, 475 L'Enfant Plaza SW., 11th Floor North, Washington, DC 20260-0004.

FOR FURTHER INFORMATION CONTACT: Randall F. Sobol at 808-423-3883.

SUPPLEMENTARY INFORMATION: The Republic of the Marshall Islands (RMI) and the Federated States of Micronesia (FSM) were, from 1947 to 1986, under United States government administration pursuant to the trusteeship provisions of the United Nations Charter. From 1986 to 2003, the United States was party to a treaty of international political association with each of these two emerging nations, designed to bring about their self-government. The Compact of Free Association (CFA), as the treaty was called, included provisions for economic assistance and defense. Its terms included postal and related services and provided for reimbursement to the Postal Service for the costs associated with these services.

In 2000, the General Accounting Office produced a report evaluating the progress made under the CFA. The report, GAO/NSIAD-00-216, Foreign Assistance: U.S. Funds to Two Micronesian Nations Had Little Impact on Economic Development (Report to Congressional Requesters Sept. 2000), concluded that the CFA had not accomplished its goals with regard to economic development. Subsequently, the Compact of Free Association Amendments Act of 2003 ratified an amended and renewed CFA (2003 CFA). The 2003 CFAs again addressed the postal services to be provided to the RMI and the FSM, leaving some services open to further negotiations between the Postal Service and the governments of the RMI and the FSM. The 2003 CFAs called for a phased transition for the RMI and the FSM to move to international status as an office of exchange for mail. The 2003 CFAs will expire in 2024.

On September 15, 2005, the Postal Service published a notice in the Federal Register (70 FR 54510) proposing use of the phased international rate schedules for the Republic of the Marshall Islands and the Federated States of Micronesia. The application of international rate schedules to these Freely Associated States was permissible, in conformity with, and in furtherance of the terms of the 2003 CFAs between the United States Government and the governments of the RMI and the FSM.

After considering comments on its proposal to use international postal rates, fees, and mail classifications, on November 23, 2005, the Postal Service published a final rule in the Federal Register (70 FR 70976) implementing the use of international published prices and mailing standards.

That notice amended the Mailing Standards of the United States Postal Service, International Mail Manual (IMM) to include the RMI and the FSM in most international products and services, and it added them to the individual country listings. At the same time, a phased schedule of international rates was introduced in conformity with the 2003 CFAs, which permits such a change to begin not sooner than 2006 and allows the rates to increase to full international rates over a period of not less than five years. A subsequent article removed all references to these countries from the Mailing Standards of the United States Postal Service, Domestic Mail Manual (DMM).

The application of international rates to these Freely Associated States had observable effects on the economy and business correspondence of the RMI and the FSM. The Postal Service has considered a number of business solutions to lessen that impact, but none are believed to provide optimal service to the FSM and RMI. Consequently, the Postal Service is reverting mail service to the FSM and RMI to domestic status treatment. This is consistent with the CFAs, since the CFAs do not preclude the continuation of domestic mail service treatment to the FSM and RMI. The Postal Service accordingly is returning the parties and their people to substantially similar position they held prior to the application of the international mail schedule, thereby enabling the governments of the RMI and FSM to continue to pursue appropriate long term solutions without adversely impacting the economies of the parties and the lives of their people.

This final rule amends the final rule published on November 23, 2005. Effective November 19, 2007, the RMI and the FSM will revert to the domestic mail treatment as provided in DMM section 608.2.2. As explained below, the Postal Service will restore the domestic mail treatment offered to its status quo prior to the transition to phased international service, with certain exceptions.

As background, prior to the November 2005 change, electronic return receipts, Delivery Confirmation and Signature Confirmation were not offered in the Freely Associated States, including the RMI and FSM, for both inbound and outbound mail. The January 6, 2005, issue of the Domestic Mail Manual updated on March 17, 2005, set out these limitations on services in sections 608.2.2 (Mail Treated as Domestic), 503.6.2.1 (Return Receipt, Description), 503.9.2.4 (Delivery Confirmation, Ineligible Matter), and 503.10.2.3 (Signature Confirmation, Ineligible Matter). Thus, these services will continue not to be available to customers in the RMI and the FSM.

The 2003 CFAs (Compacts) signed by the United States government and the governments of the RMI and FSM provide for postal services in Article VI. There, certain additional limits on products and services are provided. The Compacts allow the following services to be provided as negotiated between the Postal Service and the governments of the Freely Associated States: “Express Mail without a guarantee (EMS); Registered Mail; insured parcel service; recorded delivery and money orders.” The Compacts further state that “COD (cash (sic) on delivery) orders will no longer be available.” In accordance with the terms of these international agreements, COD service will not be provided.

Further, Express Mail service will be provided for inbound and outbound items, but without a guarantee. This is, however, substantially the same expedited service now offered to the FSM and the RMI. That is, as international destinations, the customers of the RMI and FSM currently receive Express Mail International service, which generally does not provide a guarantee, but which does receive expedited handling over other classes of mail. This handling of the Express Mail without a guarantee will continue to provide a benefit to the customers who choose it.

The Postal Service adopts the following changes to Mailing Standards of the United States Postal Service, Domestic Mail Manual (DMM®), which is incorporated by reference in the Code of Federal Regulations. See 39 CFR part 111.

List of Subjects in 39 CFR Part 111

Postal Service.

PART 111—[AMENDED]

1. The authority citation for 39 CFR part 111 continues to read as follows:

Authority: 5 U.S.C. 552(a); 39 U.S.C. 101, 401, 403, 404, 414, 416, 3001-3011, 3201-3219, 3403-3406, 3621, 3626, 5001.

2. Revise the following sections of Mailing Standards of the United States Postal Service, Domestic Mail Manual (DMM), as follows:

* * * * *

500 Additional Mailing Services

503 Extra Services

* * * * *

6.0 Return Receipt

* * * * *

6.2 Basic Information

6.2.1 Description

[Revise the third sentence in 6.2.1 as follows:]

* * * The electronic option is not available for items mailed to APO and FPO addresses or U.S. territories, possessions, and Freely Associated States listed in 608.2.0. * * *

* * * * *

11.0 Collect on Delivery (COD)

* * * * *

11.2 Basic Information

* * * * *

11.2.6 Ineligible Matter

COD service may not be used for:

* * * * *

[Revise 11.2.6 by adding new item f as follows:]

f. Articles sent to or from the Republic of the Marshall Islands and the Federated States of Micronesia.

* * * * *

600 Basic Standards for All Mailing Services

601 Mailability

* * * * *

9.0 Perishables

* * * * *

9.3 Live Animals

* * * * *

[Revise the heading and text in 9.3.6 as follows:]

9.3.6 Mailed to Pacific Islands

Animals mailed to the Republic of Palau, the Republic of the Marshall Islands, and the Federated States of Micronesia require a permit issued by the government of the destination country.

* * * * *

9.3.8 Other Insects

[Revise the text in the second sentence of 9.3.8 as follows:]

* * * Such insects mailed to the Republic of Palau, the Republic of the Marshall Islands, and the Federated States of Micronesia are also subject to the regulations of the destination country.

* * * * *

608 Postal Information and Resources

* * * * *

2.0 Domestic Mail

* * * * *

2.2 Mail Treated as Domestic

* * * * *

[Revise the list of Freely Associated States in 2.2 by adding the Republic of the Marshall Islands, and the Federated States of Micronesia as follows:]

Marshall Islands, Republic of the

Ebeye Island

Kwajalein Island

Majuro Island

Micronesia, Federated States of

Chuuk (Truk) Island

Kosrae Island

Pohnpei Island

Yap Island

Palau, Republic of

Koror Island

* * * * *

2.4 Customs Forms Required

[Revise the first sentence in 2.4 to add the ZIP Codes of the Republic of the Marshall Islands and the Federated States of Micronesia as follows:]

Regardless of contents, all Priority Mail weighing 16 ounces or more sent from the United States to ZIP Codes 96910-44, 96950-52, 96960, 96970, and 96799, and all Priority Mail sent from these ZIP Codes to the United States, must bear customs Form 2976-A. * * *

* * * * *

An appropriate amendment to 39 CFR part 111 to reflect these changes will be published.

Neva Watson,
Attorney, Legislative.

[FR Doc. E7-21487 Filed 10-30-07; 8:45 am]

BILLING CODE 7710-12-P